DEPARTMENT OF ENERGY

Federal Energy Regulatory Commission

[Docket No. AD08-5-000]

Compliance Workshop; Second and Final Notice of Workshop on Regulatory Compliance

June 25, 2008.

As noticed in the “First Notice of Workshop on Regulatory Compliance,” the staff of the Federal Energy Regulatory Commission (Commission) will hold a workshop on July 8, 2008, in the Commission Meeting Room at the Commission's Washington, DC headquarters, 888 First Street, NE. Please note that the starting and ending times of the conference have been changed to provide further opportunity for discussion. The workshop will now begin at 9 a.m. and end at 1 p.m. Eastern Daylight time. This workshop will provide a forum for interested participants to share perspectives and information on federal energy regulatory compliance. The workshop will focus, in particular, on the elements of a sound compliance program. One or more of the Commissioners may attend the workshop.

As indicated in the previous notice, issued May 21, 2008, this notice provides more information on the format of the workshop and the topics to be explored. For this information, please see the attached Agenda and the detailed panel descriptions below.

The workshop will consist of two panels, which will be introduced and moderated by Commission staff. The first panel, entitled “Designing and Developing a Compliance Program,” will include executives from three companies, two that are currently in the process of designing FERC-related compliance programs for their respective companies and one who is from a consulting firm that specializes in assisting energy firms to develop effective compliance programs. These panelists' presentations may address the following topics:

• Identifying and prioritizing risks;

• Integrating FERC compliance with other regulatory requirements (e.g., Securities and Exchange Commission, Commodity Futures Trading Commission, Department of Justice, and Federal Trade Commission);

• Developing an appropriate organizational structure that ensures the independence of compliance personnel;

• Tying management and employee incentives/compensation to achieving certain compliance targets;

• Developing a training program and manuals that address the applicable Commission requirements;

• Designing recordkeeping and retention policies;

• Establishing accountability/reporting systems;

• Committing adequate resources to compliance (i.e. funding and personnel); and,

• Other topics as identified by the panelists or the audience.

The second panel, entitled “Implementing and Maintaining a Compliance Program,” will include compliance officers from three companies that represent the gas, electric, and financial industries. These compliance officers have been involved in the implementation and maintenance of FERC-related compliance programs at their respective companies. These panelists' presentations may address the following topics:

• Internal reporting of possible non-compliance (e.g., internal Hotline);

• Leadership and commitment by senior management;

• Periodic internal audits, compliance monitoring, and reporting to the Board;

• Ongoing employee training;

• Ongoing monitoring and communication of regulatory changes to line personnel;

• Ensuring that all contracts are subject to an organization's internal legal review and approval process;

• Periodic assessment of the organization's compliance policies and training materials;

• Promoting effective communication between operations and compliance personnel;

• Self-reporting potential violations; and,

• Other topics as identified by the panelists or the audience.

Each panel will be immediately followed by an open mike discussion, during which those in attendance may pose questions directly to the panelists or comment on the presentations via a microphone in the Commission Meeting Room. Audience members are also encouraged to provide additional information to augment the panelists' presentations.

As stated previously, this workshop will neither be web-cast nor transcribed. All interested parties are invited, and registration is not required to attend.

Commission conferences are accessible under section 508 of the Rehabilitation Act of 1973. For accessibility accommodations please send an e-mail to accessibility@ferc.gov or call toll free 1-866-208-3372 (voice) or 202-208-1659 (TTY), or send a FAX to 202-208-2106 with the required accommodations.

Kimberly D. Bose,
Secretary.

Agenda

9-9:10 a.m. Opening Remarks

9:10-10:30 a.m. Designing/Developing a Compliance Program

Howard Friedman, Senior Manager, Regulatory & Capital Markets Consulting Energy & Resources, Deloitte & Touche LLP.

Michael Berry, Compliance Manager, Integrated Supply and Trading, BP North America.

Jeff Guldner, Vice President, Rates and Regulation, Arizona Public Service Company.

10:30-11 a.m. Open Mike Discussion: Comments and Questions from the Audience

11-11:10 a.m. Break

11:10-12:30 p.m. Implementing and Maintaining a Compliance Program

Kendal Bowman, Associate General Counsel, Progress Energy.

Steve Phillips, Director, Compliance and Ethics, E.ON U.S. LLC.

Ike Gibbs, Compliance Director and Assistant General Counsel, J.P. Morgan.

12:30-1 p.m. Open Mike Discussion: Comments and Questions from the Audience

[FR Doc. E8-15094 Filed 7-2-08; 8:45 am]

BILLING CODE 6717-01-P